MORRIS K. UDALL AND STEWART L. UDALL FOUNDATION

Sunshine Act Meetings

Time and Date: 9:00 a.m. to 3:15 p.m., Wednesday, April 26, 2017.

Place: The offices of the Morris K. Udall and Stewart L. Udall Foundation, 130 South Scott Avenue, Tucson, AZ 85701.

Status: This meeting of the Board of Trustees will be open to the public.

Matters to be Considered: (1) Call to Order & Chair's Remarks; (2) Executive Director's Remarks; (3) Election of Officers of the Board and Executive Committee; (4) Consent Agenda Approval (Minutes of the October 27, 2016, and February 9, 2017, Board of Trustees Meetings; Board Reports submitted for Education Programs, Finance and Management, Udall Center for Studies in Public Policy-Native Nations Institute-Udall Archives & their Revised Workplan, and U.S. Institute for Environmental Conflict Resolution; resolution regarding Revised Allocation of Funds to the Udall Center for Studies in Public Policy; and Board takes notice of any new and updated Personnel Policies); (5) 2018-2022 Strategic Planning Session; (6) U.S. Institute for Environmental Conflict Resolution presentation; (7) Ethics Training; and (8) Financial and Internal Controls Update.

CONTACT PERSON FOR MORE INFORMATION: Philip J. Lemanski, Executive Director, 130 South Scott Avenue, Tucson, AZ 85701, (520) 901-8500.

Dated: April 10, 2017.
Elizabeth E. Monroe,
Executive Assistant, Morris K. Udall and Stewart L. Udall Foundation, and Federal Register Liaison Officer.

[FR Doc. 2017-07540 Filed 4-11-17; 11:15 am]

BILLING CODE 6820-FN-P